GENERAL SERVICES ADMINISTRATION

[OMB Control No. 3090-0290; Docket No. 2018-0001; Sequence No. 16]

Submission for OMB Review; System for Award Management Registration Requirements for Prime Grant Recipients

AGENCY: Office of the Integrated Award Environment, General Services Administration (GSA).

ACTION: Notice of request for comments regarding revisions to an existing OMB information collection.

SUMMARY: Under the provisions of the Paperwork Reduction Act of 1995, the Regulatory Secretariat Division will be submitting to the Office of Management and Budget (OMB) a request to review and approve revisions to the currently approved information collection requirement regarding the pre-award registration requirements for federal Prime Grant Recipients. These revisions will enable non-Federal entities to complete governmentwide certifications and representations for Federal financial assistance at the time of registration in the System for Award Management (SAM).

DATES: Submit comments on or before November 14, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 3090-0290. Select the link “Comment Now” that corresponds with “Information Collection 3090-0290, System for Award Management Registration Requirements for Prime Grant Recipients”. Follow the instructions provided on the screen. Please include your name, company name (if any), and “Information Collection 3090-0290, System for Award Management Registration Requirements for Prime Grant Recipients” on your attached document.

• Mail: General Services Administration, Regulatory Secretariat Division (MVCB), 1800 F Street NW, Washington, DC 20405. ATTN: Ms. Mandell/IC 3090-0290.

Instructions: Please submit comments only and cite Information Collection 3090-0290, System for Award Management Registration Requirements for Prime Grant Recipients, in all correspondence related to this collection. Comments received generally will be posted without change to http://www.regulations.gov, including any personal and/or business confidential information provided. To confirm receipt of your comment(s), please check regulations.gov approximately two to three days after submission to verify posting (except allow 30 days for posting of comments submitted by mail).

FOR FURTHER INFORMATION CONTACT: Ms. Nancy Goode, Program Manager, IAE Outreach and Stakeholder Management Division, at telephone number 703-605-2175; or via email at nancy.goode@gsa.gov.

SUPPLEMENTARY INFORMATION:

A. Purpose

This information collection requires information necessary for prime applicants and recipients, excepting individuals, of Federal grants to register in the System for Award Management (SAM) and maintain an active SAM registration with current information at all times during which they have an active Federal award or an application or plan under consideration by an agency pursuant to 2 CFR Subtitle A, Chapter I, and Part 25 (75 FR 55673 as amended at 79 FR 75879). 2 CFR Subtitle A, Chapter I, and Part 25 designates SAM as the governmentwide repository for standard information about applicants and recipients. 2 CFR Subtitle A, Chapter II, and Part 200 (80 FR 43308) also designates SAM as the system recipients are required to report certain civil, criminal, or administrative proceedings if they meet certain conditions. Further, Federal awarding agencies are required to check SAM for pre-award purposes in accordance with 2 CFR part 180. This information collection requires that all prime grant awardees, subject to the requirements in 2 CFR Subtitle A, Chapter I, and Part 25 register and maintain their registration in SAM.

Pursuant to 2 CFR Subtitle A, Chapter II, Part 200, Subpart C, Section 200.208 Certifications and representations, Federal agencies are authorized to require non-Federal entities to submit certifications and representations required by Federal statutes, or regulations on an annual basis. Currently, most Federal agencies require non-Federal entities to submit certifications with each Federal assistance application by use of the Assurances for Non-Construction Programs (SF-424B) and on an annual basis thereafter.

To streamline this data collection and to reduce burden, OMB, in conjunction with the Federal assistance community, developed standard governmentwide certifications and representations to be certified by the non-Federal entity when registering in SAM. In Fiscal Year 2019, OMB will reemphasize that SAM is the repository for standard information about applicants and recipients and that the standard governmentwide certifications and representations are to be certified within SAM at the time of registration and/or registration renewal should meet the need of governmentwide certifications and representations. This will reduce the unnecessary, duplicative practice of agencies requesting certifications and representations with the submission of each application and lead to phasing out the use of the SF-424B, thereby decreasing the burden level of Federal grant recipients and Federal agencies.

B. Discussion and Analysis

A 60-day notice published in the Federal Register at 83 FR 24311 on May 25, 2018. Five respondent's comments were received. The following are summaries of those comments and GSA's responses:

Comment: The respondent stated support for this proposal, citing that hard copies of assurance forms are signed multiple times throughout the year. By incorporating the assurances into the SAM registration, the processing of grants and cooperative agreements would be streamlined, thereby reducing the paperwork burden for both their agency and their subrecipients.

Response: GSA agrees that incorporating grants certifications and representation into the SAM registration process will result in a burden reduction for grantees, subrecipients and federal awarding agencies.

Comment: The respondent stated their support for incorporating governmentwide certifications and representations in SAM to reduce the duplicative collection of such documents by multiple Federal agencies.

Response: GSA agrees that incorporating grants certifications and representations into the SAM registration process will reduce the duplicative collection of such documents.

Comment: One respondent questioned whether non-Federal entities self-identify if they are (or anticipate being) a prime or subrecipient.

Response: Non-Federal entities registering in SAM do not self-identify whether they are a prime or sub-recipient. Many registered entities may be both a prime recipient and subrecipient for different awards.

Comment: One respondent commented that in order to continue collecting the SF424B Assurances from entities exempt from SAM (i.e. individuals), a corresponding form would still need to be maintained outside of SAM.gov.

Response: GSA has informed OMB of this requirement.

Comment: One respondent asked whether the system update to add the grant certifications and representations will trigger an unscheduled registration update requirement for all registered entities.

Response: The implementation of the grants certifications and representations in SAM will not trigger an unscheduled registration update for registered entities. Once the grant certifications and representations become active in SAM, per OMB guidance, all registered entities will complete their initial certifications in SAM during their annual re-registration. Federal agencies will continue to use their current processes for the submission of assurances (SF-424B) until such time that all their active grant recipients have completed their registrations in SAM.

Comment: One respondent asked if entities will be required to complete all certifications at each annual re-registration and suggested that a new collection may only be needed if the individual responsible for the submission at the registered entity changes in the future.

Response: The initial implementation will require entities to provide the certification during their initial registration and each subsequent annual re-registration. GSA is continually looking at ways to improve the SAM customer experience and will take the recommendation under advisement.

Comment: One respondent proposed the elimination of SF-424D—Assurances for Construction Programs and the incorporation of the form into the certifications and representations in SAM.

Response: GSA will implement additional certifications and representations into SAM, as directed by OMB. At this time, only the assurances in the SF-424B are being incorporated.

Comment: One respondent stated that the SAM registration process is time-consuming and frustrating for their foreign-based recipients and they object to adding another layer to the process. They further stated that their grants are usually under $10,000.

Response: Although 2 CFR 25—Universal Identifier and System for Award Management, requires that all entities applying for or receiving federal awards, including subrecipients of federal awards, must register in SAM, there are conditions under which a federal agency may exempt a foreign entity from this requirement. 2 CFR 25.110 (d)(2)(ii) allows agencies to determine the practicality of whether a “foreign entity applying for or receiving an award or subaward for a project or program outside the United States valued at less than $25,000” must comply with the SAM registration requirement.

Comment: One respondent stated that eliminating an agency's ability to require certifications and assurances on their own application is impractical.

Response: Although the standard governmentwide certifications and representations will be certified in SAM, Federal agencies will still be able to require the submission of agency or program specific certifications and representations with applications.

Comment: One respondent stated that the cost and implementation timeline considerations for agencies with online project and grant application systems. The respondent further stated that they could not implement system changes by October 1.

Response: GSA has informed OMB of this consideration. The implementation date for entities to begin providing certifications during their initial registration and their subsequent annual re-registration will be no earlier than January 1, 2019. The full transition to grant certifications in SAM will not be completed for a year, since existing registrants will complete the certifications in their annual re-certification process. Once a recipient has registered or re-registered, the Federal agency will be able to download or print a copy of the entity's certification to be entered into the entity's grant award file.

C. Annual Reporting Burden

Respondents: 143,334.

Responses per Respondent: 1.

Total annual responses: 143,334.

Hours per Response: 2.5.

Total Burden Hours: 358,335.

Public comments are particularly invited on: Whether this collection of information is necessary for the proper performance of functions of the System for Award Management Registration Requirements for Prime Grant Recipients, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents in hard-copy or electronic format. Hard copy: General Services Administration, Regulatory Secretariat Division (MVCB), 1800 F Street NW, Washington, DC 20405, telephone 202-501-4755. Please cite OMB Control No. 3090-0290, System for Award Management Registration Requirements for Prime Grant Recipients, in all correspondence.

Dated: October 4, 2018.
David A. Shive,
Chief Information Officer.

[FR Doc. 2018-22407 Filed 10-12-18; 8:45 am]

BILLING CODE 6820-WY-P